ENVIRONMENTAL PROTECTION AGENCY

[FRL-8206-6]

EPA Science Advisory Board (SAB) Staff Office; Clean Air Scientific Advisory Committee; Request for Nominations for CASAC Review Panels for NOX and SOX

AGENCY: Environmental Protection Agency (EPA).

ACTION: Notice.

SUMMARY: The U.S. Environmental Protection Agency (EPA or Agency) Science Advisory Board (SAB) Staff Office is seeking nominations of nationally recognized experts for consideration of membership on two new Clean Air Scientific Advisory Committee (CASAC) Review Panels. One Review Panel will provide advice to EPA on primary (human health-based) air quality standards for oxides of nitrogen (NOX) and sulfur oxides (SOX), while the second will focus on secondary (welfare-based) standards.

DATES: New nominations should be submitted by August 28, 2006.

FOR FURTHER INFORMATION CONTACT: Any member of the public wishing further information regarding this Request for Nominations may contact Mr. Fred Butterfield, Designated Federal Officer (DFO), EPA Science Advisory Board (1400F), U.S. Environmental Protection Agency, 1200 Pennsylvania Avenue, NW., Washington, DC 20460; via telephone/voice mail: (202) 343-9994; fax: (202) 233-0643; or e-mail at: butterfield.fred@epa.gov. General information concerning the CASAC or the EPA Science Advisory Board can be found on the EPA Web site at: http://www.epa.gov/sab.

SUPPLEMENTARY INFORMATION: Background: The Clean Air Scientific Advisory Committee (CASAC) was established under section 109(d)(2) of the Clean Air Act (CAA or Act) (42 U.S.C. 7409) as an independent scientific advisory committee. The chartered CASAC provides advice, information and recommendations on the scientific and technical aspects of air quality criteria and national ambient air quality standards (NAAQS) under sections 108 and 109 of the Act. Section 109(d)(1) of the Clean Air Act (CAA) requires that EPA carry out a periodic review and revision, as appropriate, of the air quality criteria and the NAAQS for the six criteria air pollutants. EPA is currently preparing to review the air quality criteria for NOX and SOX. The SAB Staff Office is establishing two separate CASAC NOX and SOX Review Panels. One will provide advice to EPA on primary (human health-based) air quality standards for oxides of nitrogen (NOX) and sulfur oxides (SOX), while the second will focus on secondary (welfare-based) standards. The CASAC NOX and SOX Review Panels will comply with the provisions of FACA and all appropriate SAB Staff Office procedural policies.

The CASAC NOX and SOX Review Panels will each consist of the seven members of the chartered CASAC supplemented by additional subject matter experts. This Federal Register notice seeks nominations for the subject matter experts described below. The CASAC NOX and SOX Review Panels will comply with the provisions of FACA and all appropriate EPA procedural policies.

Expertise Sought: The SAB Staff Office requests nominees who are nationally-recognized experts regarding NOX and SOX in one or more of the following disciplines.

(1) CASAC Primary (Health-Based) Review Panel

(a) Atmospheric Science. Expertise in physical and chemical properties of nitrogen oxides and sulfur oxides; atmospheric processes involved in their formation and transport on urban to global scales; transformation of these pollutants in the atmosphere; and movement of the pollutants between media through deposition and other such mechanisms. Also, expertise in the evaluation of natural and anthropogenic sources and emissions of nitrogen oxides and sulfur oxides and resulting ambient levels due to natural sources; pertinent monitoring or measurement methods for these pollutants; and spatial and temporal trends in their atmospheric concentrations.

(b) Human Health Exposure and Risk Assessment/Modeling. Expertise in measuring human population exposure to nitrogen oxides and sulfur oxides, or in modeling human population exposure to pollutants from ambient and indoor sources. Expertise in human health risk analysis modeling for nitrogen oxides and sulfur oxides related to respiratory and other non-cancer health effects.

(c) Dosimetry. Expertise in evaluation of the dosimetry of animal and human subjects, including identification of factors determining differential patterns of inhalation and/or deposition/uptake in respiratory tract regions that may contribute to differential susceptibility of human population subgroups and animal-to-human dosimetry extrapolations.

(d) Toxicology. Expertise in evaluation of experimental laboratory animal studies and in vitro studies of the effects of sulfur oxides and/or oxides of nitrogen on pulmonary and extra-pulmonary (e.g., cardiovascular, immunological) endpoints.

(e) Controlled Human Exposure. Expertise in evaluations of controlled human exposure studies of the effects of nitrogen oxides and sulfur oxides on healthy and compromised (e.g., having pertinent preexisting disease such as asthma) human adults and children, including physicians with experience in the clinical treatment of asthma and chronic lung diseases.

(f) Epidemiology and Biostatistics. Expertise in epidemiologic evaluation of the effects of exposures to ambient nitrogen oxides and sulfur oxides and/or other major air pollutants (e.g., particulate matter, ozone, carbon monoxide) on human population groups, including mortality and morbidity effects (e.g., respiratory symptoms, lung function decrements, asthma medication use, emergency department visits, respiratory-related hospital admissions). Also, expertise in associated biostatistics and/or health risk analysis.

(2) CASAC Secondary (Welfare-Based) Review Panel

(a) Atmospheric Science. Expertise in physical and chemical properties of nitrogen oxides and sulfur oxides; atmospheric processes involved in their formation and transport on urban to global scales; transformation of these pollutants in the atmosphere; and movement of the pollutants between media through deposition and other such mechanisms. Also, expertise in the evaluation of natural and anthropogenic sources and emissions of nitrogen oxides and sulfur oxides and resulting ambient levels due to natural sources; pertinent monitoring or measurement methods for these pollutants; and spatial and temporal trends in their atmospheric concentrations.

(b) Ecological Effects. Expertise in evaluation of the effects of exposure to nitrogen oxides and sulfur oxides, acid deposition and nitrogen deposition, on agricultural crops and natural ecosystems and their components, both flora and fauna, ranging from biochemical/sub-cellular effects on organisms to increasingly more complex levels of ecosystem organization. Appropriate expertise disciplines include: aquatic chemistry; aquatic ecology/biology; limnology; terrestrial ecology; forest ecology; grassland ecology; rangeland ecology; terrestrial/aquatic biogeochemistry; terrestrial/aquatic nutrient cycling; and terrestrial/aquatic wildlife biology and soil chemistry.

(c) Other Welfare Effects. Expertise in the evaluation of the effects of nitrogen oxides and sulfur oxides and acid deposition on public welfare, including impaired visibility and damage to materials, and also the interactions of these pollutants to affect global climate conditions.

(d) Ecosystem Exposure and Risk Assessment/Modeling. Expertise in deposition modeling across a range of scales from local watershed to landscape to continental, static and dynamic ecosystem response models, integrated assessment models, identification of bio-indicators useful for tracking ecosystem change, methods and approaches available to estimate total loadings of sulfur and nitrogen species to ecosystems, and the current state of critical loads science and application.

(e) Resource Valuation. Expertise in ecological resources, other welfare effects valuation, and/or economic benefits assessment approaches and models.

Process and Deadline for Submitting Nominations: Any interested person or organization may nominate qualified individuals for consideration of membership on the CASAC NOX and SOX Review Panels in the areas of expertise described above. Nominations should be submitted in electronic format through the SAB Web site at the following URL: http://www.epa.gov/sab; or directly via the Form for Nominating Individuals to Panels of the EPA Science Advisory Board link found at URL: http://www.epa.gov/sab/panels/paneltopics.html. Please follow the instructions for submitting nominations carefully. The nominating form requests contact information about: the person making the nomination; contact information about the nominee; the disciplinary and specific areas of expertise of the nominee; the nominee's curriculum vita; and a biographical sketch of the nominee indicating current position, educational background; research activities; and recent service on other national advisory committees or national professional organizations. To be considered, nominations should include all of the information required on the associated forms. Anyone unable to submit nominations using the electronic form and who has any questions concerning the nomination process may contact Mr. Fred Butterfield, DFO, as indicated above in this notice. Nominations should be submitted in time to arrive no later than August 28, 2006. The EPA SAB Staff Office will acknowledge receipt of nominations.

Qualified nominees will be included in a smaller subset of nominees known as the Short List. The Short List will be posted on the SAB Web site at: http://www.epa.gov/sab, and will include, for each candidate, the nominee's name and their biosketch. Public comments on the Short List will be accepted for a minimum of 21 calendar days. During this comment period, the public will be requested to provide relevant information or other documentation on nominees that the SAB Staff Office should consider in evaluating candidates. CASAC Review Panel members will be selected from the Short List.

For the EPA SAB Staff Office, a balanced subcommittee or review panel includes candidates who possess the necessary domains of knowledge, the relevant scientific perspectives (which, among other factors, can be influenced by work history and affiliation), and the collective breadth of experience to adequately address the charge. In establishing the final CASAC Review Panels, the SAB Staff Office will consider public responses to the Short List, information provided by candidates, and background information independently gathered by the SAB Staff Office on each candidate (e.g., financial disclosure information and computer searches to evaluate a nominee's prior involvement with the topic under review). Specific criteria to be used in evaluating Short List candidates for Panel membership include: (a) Scientific and/or technical expertise, knowledge, and experience (primary factors); (b) availability and willingness to serve; (c) absence of financial conflicts of interest; (d) absence of an appearance of a lack of impartiality; and (e) skills working in committees, subcommittees and advisory panels; and, for the Panel as a whole, (f) diversity of and balance among, scientific expertise, viewpoints.

Prospective candidates will also be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web site at: http://www.epa.gov/sab/pdf/ec02010.pdf.

Dated: August 1, 2006.
Anthony F. Maciorowski,
Associate Director for Science, EPA Science Advisory Board Staff Office.

[FR Doc. E6-12764 Filed 8-4-06; 8:45 am]

BILLING CODE 6560-50-P